DEPARTMENT OF HOUSING AND URBAN DEVELOPMENT

[Docket No. FR-5300-N-30]

Notice of Availability: Notice of Funding Availability (NOFA) for Fiscal Year (FY) 2009 the Historically Black Colleges and Universities (HBCU) Program

AGENCY: Office of the Assistant Secretary for Policy Development and Research, HUD.

ACTION: Notice.

SUMMARY: Through this notice, HUD announces the availability on its Web site of the application information, submission deadlines, funding criteria, and other requirements for the FY2009 Historically Black Colleges and Universities (HBCU) Program NOFA. This NOFA makes approximately $9 million available to assist Historically Black Colleges and Universities (HBCU) of Higher Education expand their role and effectiveness in addressing community development needs in their localities, including neighborhood revitalization, housing, and economic development, principally for persons of low- and moderate-income, consistent with the purposes of Title I of the Housing and Community Development Act of 1974 (42 U.S.C. 5301 et seq.) as amended. The notice providing information regarding the application process, funding criteria and eligibility requirements is available on the HUD Web site at http://www.hud.gov/offices/adm/grants/fundsavail.cfm.

FOR FURTHER INFORMATION CONTACT: For information concerning the Historically Black Colleges and Universities (HBCU) Program, contact Ophelia Wilson, Office of University Partnerships, Office of Policy Development and Research, Department of Housing and Urban Development, 451 Seventh Street, SW., Room 8226, Washington DC 20410; telephone 202-402-4390 (this is not a toll-free number). Persons with speech or hearing impairments may access this telephone number via TTY by calling the toll-free Federal Information Relay Service during working hours at 800-877-8339.

Dated: June 9, 2009.
Jean Lin Pao,
General Deputy Assistant Secretary for Policy Development and Research.

[FR Doc. E9-15564 Filed 6-30-09; 8:45 am]

BILLING CODE 4210-67-P